FEDERAL MARITIME COMMISSION

Meeting; Sunshine Act

Agency Holding the Meeting: Federal Maritime Commission

Time and Date: January 28, 2009—11 a.m.

Place: 800 North Capitol Street, NW., First Floor Hearing Room, Washington, DC.

Status: A portion of the meeting will be in Open Session and the remainder of the meeting will be in Closed Session.

Matters to be Considered:

Open Session

1. 2008 Funding for Purchase and Installation of Media Equipment for Commission Offices.

2. Docket No. 02-15 Passenger Vessel Financial Responsibility—Request of Commissioner Brennan.

Closed Session

1. FMC Agreement No. 011223-043: Transpacific Stabilization Agreement.

2. Internal Administrative Practices and Personnel Matters.

Contact Person for More Information: Karen V. Gregory, Secretary, (202) 523-5725.

Karen V. Gregory,
Secretary.

[FR Doc. E9-1755 Filed 1-23-09; 11:15 am]

BILLING CODE 6730-01-P